DEPARTMENT OF TRANSPORTATION

Federal Aviation Administration

14 CFR Part 73

[Docket No. FAA-2002-14110; Airspace Docket No. 02-AEA-23]

RIN 2120-AA66

Change of Controlling Agency for Restricted Areas R-6601 Fort A.P. Hill, VA; and R-6608A, R-6608B, and R-6608C, Quantico, VA

AGENCY: Federal Aviation Administration (FAA), DOT.

ACTION: Final rule.

SUMMARY: This action changes the controlling agency for Restricted Area R-6601, Fort A.P. Hill, VA, from “FAA, Richmond ATCT,” to “FAA, Potomac Approach”; and the controlling agency for Restricted Areas R-6608A, R-6608B, and R-6608C, Quantico, VA, from “FAA, Dulles ATCT,” to “FAA, Potomac Approach.” This change is needed due to the airspace realignments associated with the establishment of the Potomac Consolidated Terminal Radar Approach Control (TRACON) facility. The new Potomac TRACON will assume air traffic control (ATC) responsibility for the airspace encompassing these restricted areas. This is only an administrative change to reflect the name of the proper controlling ATC facility. The change will not affect the current restricted area boundaries, altitudes, time of designation, or the activities conducted within the areas.

EFFECTIVE DATE: 0901 UTC, February 20, 2003.

FOR FURTHER INFORMATION CONTACT: Paul Gallant, Airspace and Rules Division, ATA-400, Office of Air Traffic Airspace Management, Federal Aviation Administration, 800 Independence Avenue, SW., Washington, DC 20591; telephone (202) 267-8783.

SUPPLEMENTARY INFORMATION:

Background

The commissioning of the new Potomac TRACON will consolidate several air traffic facilities that currently provide ATC service in the greater Washington, DC, area. This consolidation includes two facilities (i.e., Dulles Airport Traffic Control Tower (ATCT) and Richmond ATCT) that are currently designated as the controlling agencies for Restricted Areas R-6601, R-6608A, R-6608B, and R-6608C. With Potomac TRACON assuming responsibility for the airspace encompassing these restricted areas, the FAA is taking action to change the name of the controlling agency to “Potomac Approach.”

The Rule

This action amends 14 CFR part 73 by changing the name of the controlling agency for Restricted Area R-6601, Fort A.P. Hill, VA, from “FAA, Richmond ATCT” to “FAA, Potomac Approach.” In addition, this action changes the name of the controlling agency for Restricted Areas R-6608A, R-6608B, and R-6608C, Quantico, VA, from “FAA, Dulles ATCT” to “FAA, Potomac Approach.” These administrative changes will not alter the boundaries, altitudes, time of designation, or activities conducted within the restricted areas; therefore, I find that notice and public procedure under 5 U.S.C. 553(b) are unnecessary.

Section 73.66 of part 73 was republished in FAA Order 7400.8K, dated September 26, 2002.

This regulation is limited to an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. It has been determined that this is a routine matter that will only affect air traffic procedures and air navigation, it is certified that this rule, when promulgated, will not have a significant economic impact on a substantial number of small entities under the criteria of the Regulatory Flexibility Act.

Environmental Review

This action is a minor administrative change to amend the designated controlling agency of existing restricted areas. There are no changes to air traffic procedures or routes as a result of this action. Therefore, this action is not subject to environmental assessments and procedures in accordance with FAA Order 1050.1D, “Policies and Procedures for Considering Environmental Impacts,” and the National Environmental Policy Act of 1969.

List of Subjects in 14 CFR Part 73

Airspace, Navigation (air).

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.66 [Amended]

2. § 73.66 is amended as follows:

* * * * *

R-6601 Fort A.P. Hill, VA [Amended]

By removing “Controlling agency. FAA, Richmond ATCT,” and substituting “Controlling agency. FAA, Potomac Approach” in its place.

* * * * *

R-6608A Quantico, VA [Amended]

By removing “Controlling agency. FAA, Dulles ATCT” and substituting “Controlling agency. FAA, Potomac Approach” in its place.

R-6608B Quantico, VA [Amended]

By removing “Controlling agency. FAA, Dulles ATCT” and substituting “Controlling agency. FAA, Potomac Approach” in its place.

R-6608C Quantico, VA [Amended]

By removing “Controlling agency. FAA, Dulles ATCT” and substituting “Controlling agency. FAA, Potomac Approach” in its place.

* * * * *

Issued in Washington, DC, on January 15, 2003.
Reginald C. Matthews,
Manager, Airspace and Rules Division.

[FR Doc. 03-1479 Filed 1-22-03; 8:45 am]

BILLING CODE 4910-13-P